SECURITIES AND EXCHANGE COMMISSION

[File No. 500-1]

In the Matter of AlphaTrade.com; Order of Suspension of Trading

January 18, 2013.

It appears to the Securities and Exchange Commission that there is a lack of current and accurate information concerning the securities of AlphaTrade.com because it has not filed any periodic reports for any reporting period subsequent to September 30, 2010.

The Commission is of the opinion that the public interest and the protection of the investors require a suspension of trading in the securities of the above-listed company.

Therefore, it is ordered, pursuant to Section 12(k) of the Securities Exchange Act of 1934, that trading in the above-listed company is suspended for the period from 9:30 a.m. EST on January 18, 2013, through 11:59 p.m. EST on February 1, 2013.

By the Commission.
Jill M. Peterson,
Assistant Secretary.

[FR Doc. 2013-01398 Filed 1-18-13; 11:15 am]

BILLING CODE 8011-01-P